DEPARTMENT OF DEFENSE

Department of the Army

Notice of Availability for Exclusive, Non-Exclusive, or Partially-Exclusive Licensing of an Invention Concerning Life Sign Detection and Health State Assessment System

AGENCY: Department of the Army, DoD.

ACTION: Notice.

SUMMARY: Announcement is made of the availability for licensing of the invention set forth in U.S. Provisional Patent Application Serial No. 13/744,865, entitled “Life Sign Detection and Health State Assessment System,” filed on January 18, 2013. The United States Government, as represented by the Secretary of the Army, has rights to this invention.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research and Technology Applications (ORTA), (301) 619-6664, both at telefax (301) 619-5034.

SUPPLEMENTARY INFORMATION: The invention relates to compact wearable systems for measuring a subject's vital signs, such as heart rate, respiration rate, temperature, position and motion. It also relates to processing algorithms for generating electrical signals indicating vital signs, and more generally for developing diagnostic information from groups of sensor readings.

Brenda S. Bowen,
Army Federal Register Liaison Officer.

[FR Doc. 2014-01928 Filed 1-30-14; 8:45 am]

BILLING CODE 3710-08-P